NUCLEAR REGULATORY COMMISSION

[Docket Nos. 50-266 and 50-301]

Nuclear Management Company, LLC; Point Beach Nuclear Plant, Units 1 and 2; Environmental Assessment and Finding of No Significant Impact

The U.S. Nuclear Regulatory Commission (NRC) is considering issuance of an amendment to Facility Operating License Nos. DPR-24 and DPR-27, issued to Nuclear Management Company, LLC, (NMC, or the licensee, formerly Wisconsin Electric Power Company), for operation of the Point Beach Nuclear Plant, Units 1 and 2 (PBNP), respectively, located in Manitowoc County, Wisconsin.

Environmental Assessment

Identification of the Proposed Action

The proposed action would be a full conversion from the current technical specifications (CTS) to a set of improved technical specifications (ITS) based on NUREG-1431, “Standard Technical Specifications for Westinghouse Plants,” Revision 1, dated April 1995. The proposed action is in accordance with the licensee's application dated November 15, 1999, as supplemented by letters dated March 15, June 15, June 19, July 28, August 17, September 14, October 19 and December 21, 2000, February 6, February 23, March 19, May 11 and June 13, 2001.

The Need for the Proposed Action

The NRC staff has recognized that nuclear safety in all plants would benefit from improvement and standardization of technical specifications (TSs). The “NRC Interim Policy Statement on Technical Specification Improvements for Nuclear Power Reactors” (52 FR 3788) contained proposed criteria for defining the scope of TSs. Later, the “NRC Final Policy Statement on TS Improvement for Nuclear Power Reactors” (58 FR 39132) incorporated lessons learned since publication of the interim policy statement and formed the basis for a revision to 10 CFR 50.36. The “Final Rule” (60 FR 36953) codified criteria for determining the content of TSs. To facilitate the development of standard TSs, each reactor vendor owners group and the NRC staff developed standard TSs (STS). The NRC Committee to Review Generic Requirements reviewed the STS, made note of their safety merits, and indicated its support of conversion by operating plants to the STS. For Point Beach Nuclear Plant, Units 1 and 2, the STS are NUREG-1431, Revision 1, “Standard Technical Specifications, Westinghouse,” dated April 1995. This document formed the basis for the Point Beach Nuclear Plant, Units 1 and 2, conversion.

Description of the Proposed Change

The proposed changes to the CTS are based on NUREG-1431, and guidance provided in the Final Policy Statement. The objective of this action is to completely rewrite, reformat, and streamline the CTS (i.e., to convert the CTS to ITS). Emphasis is placed on human factors principles to improve clarity and understanding. The Bases section has been significantly expanded to clarify and better explain the purpose and foundation of each specification. In addition to NUREG-1431, portions of the CTS were also used as the basis for the development of the Point Beach Nuclear Plant, Units 1 and 2 ITS. Plant-specific issues (unique design features, requirements, and operating practices) were discussed at length with the licensee.

The proposed changes from the CTS can be grouped into four general categories. These groupings are characterized as administrative changes, technical changes—relocations, technical changes—more restrictive, and technical changes—less restrictive. They are described as follows:

Administrative changes are those that involve restructuring, renumbering, rewording, interpretation, and complex rearranging of requirements and other changes not affecting technical content or substantially revising an operating requirement. The reformatting, renumbering and rewording process reflects the attributes of NUREG-1431 and does not involve technical changes to the existing TS. The proposed changes include: (a) Identifying plant-specific wording for system names, etc., (b) changing the wording of specification titles in the CTS to conform to STS, (c) splitting up requirements that are currently grouped, or combining requirements that are currently in separate specifications, (d) deleting specifications whose applicability has expired, and (e) wording changes that are consistent with the CTS but that more clearly or explicitly state existing requirements. Such changes are administrative in nature and do not impact initiators of analyzed events or assumed mitigation of accident or transient events.

Relocation changes are those involving relocation of requirements and surveillances for structures, systems, components, or variables that do not meet the criteria for inclusion in TS. Relocated changes are those CTS requirements that do not satisfy or fall within any of the four criteria specified in the Commission's regulation, 10 CFR 50.36 and may be relocated to appropriate licensee-controlled documents.

The licensee's application of the screening criteria to PBNP is described in Attachment 6 to the November 15, 1999, submittal. The affected structures, systems, components, or variables are not assumed to be initiators of analyzed events and are not assumed to mitigate accident or transient events. The requirements and surveillances for these affected structures, systems, components, or variables, will be relocated from the TSs to administratively controlled documents such as the Final Safety Analysis Report, the ITS Bases, or other licensee-controlled documents. Once these items have been relocated to other licensee-controlled documents, the licensee may revise them under the provisions of 10 CFR 50.59 or other NRC-approved control mechanisms, which provide appropriate procedural means to control changes by the licensee.

More restrictive changes are those involving more stringent requirements compared to the CTS for operation of the facility. These more stringent requirements do not result in operation that will alter assumptions relative to the mitigation of an accident or transient event. The more restrictive requirements will not alter the operation of process variables, structures, systems, and components described in the safety analyses.

Less restrictive changes are those where CTS requirements are relaxed, relocated or eliminated, or new plant operational flexibility is provided. The more significant “less restrictive” requirements are justified on a case-by-case basis. When requirements have been shown to provide little or no safety benefit, their removal from the TSs may be appropriate. In most cases, relaxations previously granted to individual plants on a plant-specific basis were the result of (a) generic NRC actions, (b) new NRC staff positions that have evolved from technological advancements and operating experience, or (c) resolution of the Owners Groups' comments on the Improved Standard Technical Specifications. Generic relaxations contained in NUREG-1431 were reviewed by the staff and found to be acceptable because they are consistent with current licensing practices and NRC regulations. Each less restrictive change in the Point Beach conversion was justified by the licensee in a Discussion of Change and reviewed by the NRC staff.

In addition, there are eighteen changes that are different from the requirements in both the CTS and NUREG-1431, or that are beyond the changes that are needed to meet the overall purpose of the conversion. These changes are as follows:

1. Adopts more restrictive action requirements for the emergency safety feature actuation system (ESFAS). The more restrictive action requirements pertain to instrumentation channels for the following functions: steam line isolation on manual, high steam flow, and high high steam flow (ITS 3.3.2).

2. Adds an exception to Mode 3 applicability of the ESFAS instrument function. The ITS is modified to allow reactor coolant system hydrostatic testing in Mode 3 without the steam line pressure—low safety injection function instrumentation being operable (ITS 3.3.2).

3. Adds a requirement for the condensate isolation functions to be operable in Modes 1, 2, and 3, except when all main feedwater regulating valves and associated bypass valves are closed and deactivated (ITS 3.3.2).

4. Adopts STS requirements to perform a trip actuating device operational test on containment isolation valve position indication post-accident monitoring instrumentation function (ITS 3.3.3).

5. Increases action requirements for loss of power diesel generator start and load sequence instrumentation functions. This item also imposes additional restrictions by adopting the STS-required actions for two inoperable channels of 480 volt buses (ITS 3.3.5).

6. Relocates reactor coolant system pressure temperature limits to the pressure temperature limits report (PTLR) and adopts STS required actions to ensure operation within the pressure and temperature limits (ITS 3.4.3 and ITS 5.6.5). This item is beyond-scope because the licensee's proposed ITS differed from some of the STS requirements.

7. Increases operability and surveillance requirements for reactor coolant system (RCS) loops. For Mode 3, the CTS currently requires one reactor coolant pump to be in operation and one steam generator to be operable. ITS adds the requirement that two RCS loops be operable, which also means that two steam generators are required in Mode 3. ITS also adopts a surveillance to verify one RCS loop is in operation consistent with the current limiting condition for operation (ITS 3.4.1).

8. Adds explicit operability, action, and surveillance requirements for the containment sump monitor (ITS 3.4.15).

9. Revises applicability and frequency for surveillance of the auto actuation of emergency core cooling system (ECCS) valves and auto start of ECCS pumps in Mode 4. ITS specifies an 18-month frequency as opposed to the once each refueling frequency in CTS. ITS also requires the surveillance requirements to be met during all Mode 4 conditions (ITS 3.5.3).

10. Imposes more restrictive changes to main steam isolation valve and non-return check valve action requirements. The Point Beach plant has a different arrangement for main steam isolation valves and therefore, could not adopt the STS requirements for these TSs (ITS 3.7.2).

11. Adds operability, action, and surveillance TS requirements for main feedwater isolation valves (ITS 3.7.3).

12. Imposes more restrictive changes to the atmospheric dump valve flow path action and surveillance requirements (ITS 3.7.4).

13. Revises the frequency of surveillance requirements for the auxiliary feedwater (AFW) system. This change also revises some of the nomenclature to the AFW system (ITS 3.7.5).

14. Incorporates changes to the component cooling water system operability and action requirements. Also, adds a note to clarify action requirements when a residual heat removal loop is made inoperable by component cooling system components (ITS 3.7.7).

15. Adds surveillance requirements to verify the manual start and alignment capabilities of the control room emergency ventilation system (ITS 3.7.9).

16. Adds a limiting condition for operation and an action pertaining to a containment air temperature limit. In addition, a Bases section is added to provide background for the new TS limit (ITS 3.6.5).

17. Adds a surveillance requirement to verify that one residual heat removal loop is in operation during Mode 6 conditions (ITS 3.9.5).

18. Relocates cycle-specific parameters to a core operating limits report (COLR) and establishes administrative control requirements for the COLR in ITS 5.6.4 (ITS 5.6.4).

An additional action being implemented with the ITS is the creation of a Pressure Temperature Limits Report (PTLR). This action relocates pressure temperature (P/T) limits and low overtemperature pressure protection limits to a licensee controlled PTLR. The licensee submitted its methodology for calculating P/T and low-temperature overpressure protection limits in a separate letter dated March 10, 2000, as supplemented July 28, November 20, 2000, and April 10, 2001. The licensee requested to implement PTLR coincident with ITS, so this amendment is being issued with ITS.

Environmental Impacts of the Proposed Action

The NRC has completed its evaluation of the proposed revision to the CTS. Changes which are administrative in nature have been found to have no effect on the technical content of the TSs and are acceptable. The increased clarity and understanding these changes bring to the TSs are expected to improve the operators' control of the plant in normal and accident conditions. Relocation of requirements to other licensee-controlled documents does not change the requirements themselves nor does 10 CFR 50.36(c)(2)(ii) mandate that the TSs include these requirements. Further changes to these requirments may be made by the licensee under 10 CFR 50.59 or other NRC-approved control mechanisms that ensure continued maintenance of adequate requirements. All such relocations have been found to be in conformance with the guidelines of NUREG-1431 and the Final Policy Statement, and are, therefore, acceptable.

Changes involving more restrictive requirements have been found to enhance plant safety and to be acceptable.

Changes involving less restrictive requirements have been reviewed individually. When requirements have been shown to provide little or no safety benefit or to place unnecessary burden on the licensee, their removal from the TSs was justified. In most cases, relaxations previously granted to individual plants on a plant-specific basis were the result of a generic action, or of agreements reached during discussions with the Owners Groups, and have been found to be acceptable for PBNP. Generic relaxations contained in NUREG-1431 have also been reviewed by the NRC staff and have been found to be acceptable.

In summary, the proposed revisions to the CTS were found to provide control of plant operations such that reasonable assurance will be provided that the health and safety of the public will be adequately protected.

These TS changes will not significantly increase the probability or consequences of accidents, no changes are being made in the types of effluents that may be released offsite, and there is no significant increase in occupational or public radiation exposure. Therefore, there are no significant radiological environmental impacts associated with the proposed TS amendment.

With regard to potential nonradiological impacts, the proposed amendment involves features located entirely within the restricted area as defined in 10 CFR part 20 and does not have a potential to affect any historical sites. It does not affect nonradiological plant effluents and has no other environmental impact. Therefore, there are no significant nonradiological environmental impacts associated with the proposed TS amendment.

Accordingly, the NRC concludes that there are no significant environmental impacts associated with the proposed action.

Alternatives to the Proposed Action

As an alternative to the proposed action, the staff considered denial of the proposed action (ie., the “no-action” alternative). Denial of the application would result in no change in current environmental impacts. The environmental impacts of the proposed action and the alternative action are similar.

Alternative Use of Resources

This action does not involve the use of any resources not previously considered in the Final Environmental Statement for the PBNP, dated May, 1972.

Agencies and Persons Consulted

In accordance with its stated policy, on June 26, 2001 the staff consulted with the state of Wisconsin State official, Mr. Jeff Kitsembel of the Public Service Commission of Wisconsin, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's application dated November 15, 1999, as supplemented by letters dated March 15, June 15, June 19, July 28, August 17, September 14, October 19 and December 21, 2000, February 6, February 23, March 19, May 11 and June 13, 2001. Documents may be examined, and/or copied for a fee, at the NRC's Public Document Room, located at One White Flint North, 11555 Rockville Pike (first floor), Rockville, Maryland. Publicly available records will be accessible electronically from the Agencywide Documents Access and Management Systems (ADAMS) Public Electronic Reading Room on the Internet at the NRC web site, http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 13th day of July 2001.
For the Nuclear Regulatory Commission.
Beth Wetzel,
Senior Project Manager, Section 1, Project Directorate III; Division of Licensing Project Management, Office of Nuclear Reactor Regulation.

[FR Doc. 01-18329 Filed 7-20-01; 8:45 am]

BILLING CODE 7590-01-P